NATIONAL AERONAUTICS AND SPACE ADMINISTRATION

[Notice 04-106]

Notice of Prospective Patent License

AGENCY: National Aeronautics and Space Administration.

ACTION: Notice of prospective patent license.

SUMMARY: NASA hereby gives notice that RNAS, Inc. of MN has applied for a partially exclusive patent license to practice the invention described and claimed in U.S. Patent Number 6,664,298 entitled “Zero-Valent Metal Emulsion for Reductive Dehalogenation of DNAPLs,” KSC-12246-2 entitled “Zero-Valent Metal Emulsion for Reductive Dehalogenation of DNAPLs,” and KSC-12246-3 entitled “Zero-Valent Metal Emulsion for Reductive Dehalogenation of DNAPLs.” All three technologies are assigned to the United States of America as represented by the Administrator of the National Aeronautics and Space Administration. Written objections to the prospective grant of a license should be sent to Randall M. Heald, Assistant Chief Counsel/Patent Counsel, and John F. Kennedy Space Center.

DATES: Responses to this Notice must be received within 15 days from date of publication in the Federal Register.

FOR FURTHER INFORMATION CONTACT: Randall M. Heald, Assistant Chief Counsel/Patent Counsel, John F. Kennedy Space Center, Mail Code: CC-A, Kennedy Space Center, FL 32899, telephone (321) 867-7214.

Dated: August 11, 2004.
Keith T. Sefton,
Deputy General Counsel (Administration and Management).

[FR Doc. 04-19966 Filed 8-31-04; 8:45 am]

BILLING CODE 7510-13-P